DEPARTMENT OF HEALTH AND HUMAN SERVICES

National Institutes of Health

Office of the Director, National Institutes of Health; Amended Notice of Meeting

Notice is hereby given of an amended meeting notice of the Advisory Committee to the Director, National Institutes of Health, December 14-15, 2023, open meeting that was published in the Federal Register on November 13, 2023, 88 FR 77595.

Pursuant to section 1009 of the Federal Advisory Committee Act, as amended, notice is hereby given of a meeting of the Advisory Committee to the Director, National Institutes of Health.

This will be a hybrid meeting held in-person and virtually and will be open to the public as indicated below. Members of the public are encouraged to attend virtually as space is limited.

Individuals who plan to attend as well as those who need special assistance or other reasonable accommodations, should notify the Contact Person listed below in advance of the meeting. The meeting can be accessed from the NIH Videocast at the following link: https://videocast.nih.gov/ as space is limited.

Name of Committee: Advisory Committee to the Director, National Institutes of Health.

Date: December 14, 2023.

Time: 9:00 a.m. to 4:45 p.m.

Agenda: NIH Director's Report; NIH Public Access Plan; Cancer Moonshot; Addressing the Mental Health Crisis through Research; Assessing the Public Health Threat of Post-Acute Sequelae of SARS CoV-2 Infection (PASC)—NIH RECOVER Initiative: Briefing for the Advisory Committee to the Director (ACD); The Foundation for the National Institutes of Health (FNIH); Other Business of the Committee.

Date: December 15, 2023.

Time: 9:00 a.m. to 2:45 p.m.

Agenda: HeLa Genome Data Access Working Group: Data Access Requests; NIH-Wide Collaborative Initiative on Climate Change and Health; Clinical Trial Stewardship; Accessibility Update; Update from the ACD Working Group on Catalyzing the Development and Use of Novel Alternative Methods to Advance Biomedical Research; Update from the ACD Working Group on Re-envisioning NIH-Supported Postdoctoral Training; Other Business of the Committee.

Place: National Institutes of Health, Building 1, Wilson Hall, One Center Drive, Bethesda, MD 20892.

Contact Person: Cyndi Burrus-Shaw, Staff Assistant, National Institutes of Health, Office of the Director, One Center Drive, Building 1, Room 126, Bethesda, MD 20892, 301-496-2433, shawcy@od.nih.gov

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Institute's/Center's home page: http://acd.od.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: November 13, 2023.
David W. Freeman,
Supervisory Program Analyst, Office of Federal Advisory Committee Policy.

[FR Doc. 2023-25376 Filed 11-16-23; 8:45 am]

BILLING CODE 4140-01-P